DEPARTMENT OF TRANSPORTATION

Federal Railroad Administration

[Docket Number FRA-2014-0103]

Petition for Waiver of Compliance

In accordance with part 211 of Title 49 of the Code of Federal Regulations (CFR), this document provides the public notice that by a document dated September 26, 2014, the Ohi-Rail Corporation (OHIC) has petitioned the Federal Railroad Administration (FRA) for a waiver of compliance from certain provisions of the Federal railroad safety regulations contained at 49 CFR 223.11—Requirements for existing locomotives. FRA assigned the petition Docket Number FRA-2014-0103. OHIC, categorized as a Railroad Switching and Terminal Establishment and headquartered in Steubenville, Ohio, has petitioned for a permanent waiver of compliance for its ALCO S-2 locomotive, Number AOSX 84, from the requirements of the Railroad Safety Glazing Standards, 49 CFR part 223, that require certified glazing in all windows and a minimum of four emergency windows. The locomotive was built in 1943. OHIC is a Class III railroad operating on a single and non-signaled line (approximately 40 miles long) in Ohio between Bayard and Hopedale. The line passes through mainly rural areas with Minerva, Ohio, approximate population 3,700, being the largest populated area on the line. There is no record of incidents of stoning or other acts of vandalism to OHIC trains in recent memory. OHIC plans to use the locomotive in work-train service for interchanges with Columbus and Ohio River Railroad, Norfolk Southern Railway, and Wheeling & Lake Erie Railway.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2014-0103) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 26, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov or interested parties may review DOT's complete Privacy Act Statement in the Federal Register published on April 11, 2000 (65 FR 19477).

Issued in Washington, DC, on May 6, 2015.
Ron Hynes,
Director, Office of Technical Oversight.

[FR Doc. 2015-11445 Filed 5-11-15; 8:45 am]

BILLING CODE 4910-06-P